ENVIRONMENTAL PROTECTION AGENCY

40 CFR Part 52

[EPA-R03-OAR-2014-0792; FRL-9928-02-Region 3]

Approval and Promulgation of Air Quality Implementation Plans; West Virginia; Permits for Construction and Major Modification of Major Stationary Sources Which Cause or Contribute to Nonattainment Areas

AGENCY: Environmental Protection Agency (EPA).

ACTION: Final rule.

SUMMARY: The Environmental Protection Agency (EPA) is finalizing approval of four State Implementation Plan (SIP) revisions submitted by the West Virginia Department of Environmental Protection for the State of West Virginia on June 29, 2010, July 8, 2011, July 6, 2012, and July 1, 2014 with the exception of certain revisions related to ethanol production facilities on which the EPA is taking no action at this time. These revisions pertain to West Virginia's nonattainment New Source Review (NSR) program, notably provisions for preconstruction permitting requirements for major sources of fine particulate matter (PM2.5) and NSR reform. This action is being taken under the Clean Air Act (CAA).

DATES: This final rule is effective on June 25, 2015.

ADDRESSES: The EPA has established a docket for this action under Docket ID Number EPA-R03-OAR-2014-0792. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the West Virginia Department of Environmental Protection, Division of Air Quality, 601 57th Street SE., Charleston, West Virginia 25304.

FOR FURTHER INFORMATION CONTACT: Mr. Mike Gordon, (215) 814-2039, or by email at gordon.mike@epa.gov.

SUPPLEMENTARY INFORMATION:

I. Background

On February 5, 2015 (80 FR 6491), the EPA published a notice of proposed rulemaking (NPR) for the State of West Virginia. In the NPR, the EPA proposed approval of revisions to West Virginia's nonattainment NSR program, notably provisions for preconstruction permitting requirements for major sources of PM2.5 and for NSR reform, with the exception of certain revisions related to ethanol production facilities on which the EPA proposed taking no action. The formal SIP revisions were submitted by West Virginia on June 29, 2010, July 8, 2011, July 6, 2012, and July 1, 2014.

While each of the SIP revisions was submitted individually, the EPA is finalizing approval of these submittals as a whole. As described in the proposal, there are some instances where specific language was added in a West Virginia regulation included in one of the earlier SIP submittals but the language was subsequently removed from that same regulation included in a later SIP submittal such that the EPA therefore only assessed the approvability of that portion of the regulation included in the later SIP submittal. It should be noted that the most recent version of West Virginia's nonattainment NSR regulations is the version included for SIP approval in the 2014 submittal, and this submittal reflects the sum of the changes made from the 2010, 2011, and 2012 submittals as well.¹

¹ The EPA, however, is acting on all four SIP submittals in this notice because each submittal contains necessary procedural information related to West Virginia's revisions to its nonattainment NSR regulations and development of its SIP submittals, which are required for SIP revisions by 40 CFR parts 51 and 52.

In this final action, the EPA is revising 40 CFR part 52, subpart XX to reflect approval of revisions to West Virginia's nonattainment NSR program in Series 19 under Title 45 of West Virginia Code of State Rules (45CSR19), with the exception of certain provisions related to ethanol production facilities on which the EPA proposed taking no action. A full description of the revisions submitted by West Virginia is available in the proposed approval and in the docket for this rulemaking action. No comments were received during the public comment period for the proposed rule.

II. Summary of SIP Revision

The revisions submitted by WVDEP which the EPA is approving in this action involve amendments to 45CSR19 (Permits for Construction and Major Modification of Major Stationary Sources Which Cause or Contribute to Nonattainment Areas) as a result of Federal regulatory actions discussed in the proposal for this final rule. A summary of the changes made in the 2010, 2011, 2012, and 2014 submittals are available in the docket under “Summary of West Virginia NSR Changes.”

As discussed in the proposal to this final rule, West Virginia's SIP revisions include provisions that exclude facilities that produce ethanol through a natural fermentation process from the definition of “chemical process plants” in the major NSR source permitting program as amended in the 2007 Ethanol Rule. The 2010 submittal added provisions at 45CSR19-2.35.e.20 and 3.7.a.20 that remove certain ethanol production facilities from the definition of “chemical process plants.” These provisions are also included in the subsequent 2011, 2012, and 2014 submittals. In this final rulemaking, the EPA is taking no action on the submitted regulation revisions at 45CSR19-2.35.e.20 and 3.7.a.20 that address the 2007 Ethanol Rule.

III. Final Action

The EPA's review of this material indicates that the 2010, 2011, 2012 and 2014 SIP submittals collectively meet the federal counterpart requirements in 40 CFR parts 51 and 52 for a nonattainment NSR permitting program. For the reasons stated previously, the EPA is approving these WV SIP submissions with the exception of the revisions to 45CSR19-2.35.e.20 and 3.7.a.20. The EPA is taking no action on the 45CSR19 regulations relating to the definition of “chemical process plants” which are at 45CSR19-2.35.e.20 and 3.7.a.20.

IV. Incorporation by Reference

In this rulemaking action, the EPA is finalizing regulatory text that includes incorporation by reference. In accordance with requirements of 1 CFR 51.5, the EPA is finalizing the incorporation by reference of 45CSR19, with the exception of certain provisions related to ethanol production facilities on which the EPA proposed taking no action. The EPA has made, and will continue to make, these documents generally available electronically through www.regulations.gov and/or in hard copy at the appropriate EPA office (see the ADDRESSES section of this preamble for more information).

V. Statutory and Executive Order Reviews

A. General Requirements

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and the EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by July 27, 2015. Filing a petition for reconsideration by the Administrator of this final rule does not affect the finality of this action for the purposes of judicial review nor does it extend the time within which a petition for judicial review may be filed, and shall not postpone the effectiveness of such rule or action. This action approving revisions to West Virginia's nonattainment NSR program may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: May 7, 2015.
William C. Early,
Acting Regional Administrator, Region III.

40 CFR part 52 is amended as follows:

PART 52—APPROVAL AND PROMULGATION OF IMPLEMENTATION PLANS

1. The authority citation for part 52 continues to read as follows:

Authority: 42 U.S.C. 7401 et seq.

Subpart XX—West Virginia

2. In § 52.2520, the table in paragraph (c) is amended by revising the table heading and the entries for [45 CSR] Series 19, to read as follows:

§ 52.2520 Identification of plan.

* * * * *

(c) * * *

Epa-Approved Regulations in the West Virginia Sip
State citation [Chapter 16-20 or 45 CSR ] | Title/Subject | State effective date | EPA Approval date | Additional explanation/citation at 40 CFR 52.2565
* * * * * * *
[45 CSR] Series 19 Permits for Construction and Major Modification of Major Stationary Sources of Air Pollution Which Cause or Contribute to Nonattainment
Section 45-19-1 | General | 6/1/2013 | 5/26/2015 Insert Federal Registercitation]
Section 45-19-2 (Except: 45CSR19-2.35.e.20) | Definitions | 6/1/2013 | 5/26/2015 [Insert Federal Register citation] | EPA is taking no action on revisions related to remove certain ethanol production facilities from the definition of “chemical process plants.”
Section 45-19-3 (Except: 45CSR19-3.7.a.20) | Applicability | 6/1/2013 | 5/26/2015 [Insert Federal Register citation] | EPA is taking no action on revisions related to remove certain ethanol production facilities from the definition of “chemical process plants.”
Section 45-19-4 | Conditions for a Permit Approval for Proposed Major Sources that would Contribute to a Violation of NAAQS | 6/1/2013 | 5/26/2015 [Insert Federal Register citation]
Section 45-19-5 | Conditions for Permit Approval for Sources Locating in Attainment of Unclassifiable Areas That Would Cause a New Violation of a NAAQS | 6/1/2013 | 5/26/2015 [Insert Federal Register citation]
Section 45-19-6 | [Reserved] | 6/1/2013 | 5/26/2015 [Insert Federal Register citation]
Section 45-19-7 | Baseline for Determining Credit for Emission Offsets | 6/1/2013 | 5/26/2015 [Insert Federal Register citation]
Section 45-19-8 | Location of Emissions Offsets | 6/1/2013 | 5/26/2015 [Insert Federal Register citation]
Section 45-19-9 | Administrative Procedures for Emission Offset Proposals | 6/1/2013 | 5/26/2015 [Insert Federal Register citation]
Section 45-19-10 | [Reserved] | 6/1/2013 | 5/26/2015 [Insert Federal Register citation]
Section 45-19-11 | [Reserved] | 6/1/2013 | 5/26/2015 [Insert Federal Register citation]
Section 45-19-12 | Reasonable Further Progress | 6/1/2013 | 5/26/2015 [Insert Federal Register citation]
Section 45-19-13 | Source Impact Analysis | 6/1/2013 | 5/26/2015 [Insert Federal Register citation]
Section 45-19-14 | Permit Requirements for Major Stationary Sources and Major Modifications | 6/1/2013 | 5/26/2015 [Insert Federal Register citation]
Section 45-19-15 | Public Review Procedures | 6/1/2013 | 5/26/2015 [Insert Federal Register citation]
Section 45-19-16 | Public Meetings | 6/1/2013 | 5/26/2015 [Insert Federal Register citation]
Section 45-19-17 | Permit Transfer, Cancellation and Responsibility | 6/1/2013 | 5/26/2015 [Insert Federal Register citation]
Section 45-19-18 | Disposition of Permits | 6/1/2013 | 5/26/2015 [Insert Federal Register citation]
Section 45-19-19 | Requirements of Air Quality Models | 6/1/2013 | 5/26/2015 [Insert Federal Register citation]
Section 45-19-20 | [Reserved] | 6/1/2013 | 5/26/2015 [Insert Federal Register citation]
Section 45-19-21 | [Reserved] | 6/1/2013 | 5/26/2015 [Insert Federal Register citation]
Section 45-19-22 | [Reserved] | 6/1/2013 | 5/26/2015 [Insert Federal Register citation]
Section 45-19-23 | Actuals PAL | 6/1/2013 | 5/26/2015 [Insert Federal Register citation]
Section 45-19-24 | Conflict with Other Permitting Rules | 6/1/2013 | 5/26/2015 [Insert Federal Register citation]
Section 45-19-25 | Inconsistency Between Rules | 6/1/2013 | 5/26/2015 [Insert Federal Register citation]
* * * * * * *

* * * * *

[FR Doc. 2015-12486 Filed 5-22-15; 8:45 am]

BILLING CODE 6560-50-P